DEPARTMENT OF STATE

[Public Notice 3974]

Bureau of Educational and Cultural Affairs Request for Grant Proposals: Burma Refugee Scholarship Program

SUMMARY: The Office of Academic Exchange Programs of the Bureau of Educational and Cultural Affairs announces an open competition for the Burma Refugee Scholarship Program (BRSP). Public and private non-profit organizations meeting the provisions described in Internal Revenue Code section 26 USC 501(c)(3) may submit proposals to develop a scholarship program for approximately five Burmese students and professionals living in India as refugees. The BRSP scholarship recipients will receive undergraduate, graduate, or specialized training in a variety of fields at U.S. educational institutions for up to a three-year period.

Program Information

Overview: In 1990, at the request of Congress, the Bureau established the Burma Refugee Scholarship Program. Public Law 101-246 directed the Bureau to provide grants to Burmese students and professionals who fled Burmese repression after 1988 and are now living outside Burma.

The goal of the BRSP is to support democratic development in Burma by helping to educate potential leaders who could assist with Burma's future transition to a democratic government. The program ensures that selected Burmese, who are one day expected to assume leadership roles in their country, have an opportunity to pursue higher education in the U.S. and to obtain firsthand knowledge of American democratic institutions. It is the Bureau's intent to provide grantees with programs of the highest quality that meet the students' academic and personal needs and to further the Bureau's mission to promote mutual understanding. At the present time, the BRSP grantees do not return to Burma following their grants, but are given Significant Public Benefit Parole (asylum) in the U.S.

Guidelines: Program administration activities should cover the time period from approximately August 31, 2002—December 31, 2005. The projected grantee caseload is expected to be approximately five new students, who would ideally begin U.S.

English language training in late summer/ early fall 2003. BRSP scholarships are offered for up to two years of specialized training or academic study at the undergraduate or graduate level, with the provision of up to one year of pre-academic English language training. Students with undergraduate degrees who are bridging to a master's program would also be eligible.

The successful applicant organization will have responsibility for program administration, which includes the recruitment and selection of eligible Burmese candidates living in India, the placement of students at an appropriate U.S. academic institution, and the supervision of students' academic programs and personal adjustment to the United States.

Administration in the Region: The organization must work closely with the U.S. Immigration and Naturalization Service and the U.S.

Embassy in India to coordinate appropriate documentation for BRSP grantees' entry into the United States. Applicant proposals should include a plan to provide for publicity, recruitment, and selection in India. The organization will be responsible for administering the program through its own resources and subcontractors, as required. The organization must also provide relocation or transition assistance to the students in the U.S. at the time their studies are terminated.

Requirements and Implementation: The proposal should respond to and describe the following major requirements:

—Planning and monitoring the entire exchange program including

—publicizing the program to appropriate audiences in India using such methods as media, alumni networks, local educational institutions, and NGOs;

—distributing, answering inquiries about, and receiving applications. (This may require the assistance of volunteers or paid staff in the region and/or special mailing arrangements);

—selecting and notifying participants;

—planning relevant travel;

—placing at U.S. universities;

—conducting orientations;

—providing housing/stipends;

—providing on-going advising and student services;

—conducting cross cultural counseling;

—planning cultural and community enrichment activities about the U.S.;

—organizing internships and professional development;

—providing evaluation and alumni activities; and

—providing careful fiscal management.

To the extent possible, the applicant should designate a contact person in India who would provide assistance with dissemination and submission of applications.

Length of Program: The proposed length of the Burmese refugee scholarships is up to three years—up to one year of intensive English-language training followed by up to two years of academic training. The duration of the scholarship grant should not exceed three years. Students must understand this policy in advance. Where there are compelling circumstances, at the discretion of the project director and the Bureau's program officer, students may receive a limited extension to complete their degrees. Summer periods should be used for a mix of academic, professional, and cultural enrichment activities.

Pre-academic and English-Language Training: Applicants must describe plans for pre-academic preparation and English-language training, and for administering TOEFL or other test(s) as required by applicant institutions. It is assumed that most participants in this scholarship program will need up to one year of English-language instruction. Several levels of intensive English-language courses, from beginning to advanced, should be made available. The Bureau recommends that participants be tested immediately after the initial orientation to determine which level of English-language courses is appropriate. Students who need additional instruction beyond the first year will be required to take the additional instruction at their placement universities.

Recruitment: The recruitment material and scholarship publicity should provide all relevant information to potential applicants.

The key conditions, benefits, and terms of the program—what is, and what is not covered under the grant—should be fully described to candidates and nominees before they accept an award and travel to the U.S. The description of study opportunities should be basic and include essential information for applicants who are unfamiliar with the U.S. educational system, and the policy on dependents should be described.

Stipends: Please address the question of participant stipend levels in the narrative, including what expenses the stipend is intended to cover and the estimated monthly cost of housing provided to students. The current stipend level is $1025 per month.

Fields of Study: Eligibility fields for the FY-02 program should respond to critical development needs in Burma, promote mutual understanding and potential linkages with the U.S., and attract academically qualified students who are likely to become future leaders in Burma. The program announcement might include a statement such as: “Eligible fields of study are drawn from the standard university curriculum, with priority given to agriculture, business administration, community/public health, economics, education, environmental studies, journalism, legal studies, natural resources management, political science, and public administration. If a subject area is proposed that is not among these priority fields, candidates should give special attention to explaining how this course of study would support the goals of the program.” The final list of eligible fields and the text of the announcement must be reviewed and approved by the Office of Academic Programs, in consultation with the Bureau's East Asia and Pacific Regional Bureau (EAP/PD), prior to program implementation.

Selection Criteria: The Burma Refugee Scholarship Program is targeted toward Burmese students and professionals who reside outside Burma. The proposal should outline the selection criteria and selection process for the program. A corresponding statement of the selection criteria should be included in the program announcement for potential applicants. The leadership elements and the expectation that students will be active alumni following the conclusion of the program should be emphasized. Applicants should work closely with the Bureau in developing the selection criteria.

Timeline: The proposal should include a projected timeline, from the first recruitment announcement to student arrival and placement in the U.S., which takes into consideration the logistical and communications obstacles in the region. These include immigration requirements, travel arrangements, obtaining student records, and other time-consuming activities. The timeline should include dates of key events, such as “candidates notified,” “pre-arrival materials mailed,” etc.

U.S. Educational System, American Culture, and Institutions: It is essential that prior to arrival, as well as during orientation, applicants and participants be informed of the general nature, philosophy, and goals of U.S. higher education, particularly with regard to the broad scope of a liberal arts bachelor's degree program. Applicants and participants should clearly understand that they will be required to take courses in a variety of academic fields and should be briefed about the specifics of this grant. Students should receive guidance from the academic advisor to assist them in choosing appropriate courses.

To support the mutual understanding goal of the exchange, the Bureau is particularly interested in opportunities for academic and enrichment experiences related to U.S. institutions, society, and culture. It is recommended that the applicant stipulate that students take one or more courses in a U.S. Studies field, such as American history, literature, or government. The Bureau welcomes other creative ideas for exposing students to American institutions, such as discussion groups on U.S. issues, visits to political campaign offices and polling places, attendance at school board or city council meetings, exposure to American religious institutions, and civic-related volunteer work. Student attendance at museums, concerts, plays, and other cultural events featuring American content should be encouraged and facilitated whenever possible. The awardee will be requested to keep the Bureau informed of the progress of this portion of the program throughout the year.

Program Activities: Applicants should describe plans for: Orientation, including pre-departure orientation; goals and approaches for the academic portion of the program, including any special activities such as internships or academic enrichment; cultural and community projects; evaluation and follow-up; and alumni-tracking. For example, volunteer work, student presentations to the local community, and matching of students with a local host family might be among the enrichment activities proposed. Internships should be designed to provide a close match with a student's field of academic or professional interest. Applicants must demonstrate that they can provide support systems (such as tutoring, counseling, host family, mentor or buddy system, consultation with student advisor and project director) to the students during the program.

Pre-arrival Information: Applicants should provide a sample of the pre-arrival information. Information should be complete and detailed. Key points concerning academic requirements, academic departments and available courses, housing, what to pack, personal budgeting considerations, policies on dependents, and other critical issues should be included in the material. The material should be designed to serve as a useful post-arrival reference as well, supplemented with additional information.

GPRA—Outcomes and Results: Applicants must include a statement of goals and expected outcomes for the program, including how results would be measured, as necessitated by Government Performance and Results Act (GPRA). Outcomes might include, but are not limited to, the following areas: developing a cadre of Burmese leaders with first-hand experience in the U.S., advancement of development goals for Burma, conflict resolution and building viable non-governmental institutions in Burma, or expansion of professional relationships between individuals and institutions in the U.S. and Burma. Project goals and planning should be linked to USG objectives. For example, if it is a goal to produce or influence leaders in Burma, potential leadership qualities should be among the selection criteria for applicants.

Measurements might include: alumni achievements and activities, the quality and quantity of institutional linkages established as a result of the program, and degree of positive change in participant and/or public attitudes as a result of the program.

Budget Guidelines

The Bureau anticipates awarding one grant of up to $300,000 to support program and administrative costs required to implement this program. The Bureau encourages applicants to provide maximum levels of cost sharing and funding from private sources in support of this program. Grants awarded to eligible organizations with less than four years of experience in conducting international exchange programs will be limited to $60,000. Proposals whose administrative costs are 20% or less of the total requested from ECA will be deemed more competitive.

Applicants must submit a comprehensive budget for the entire program. There must be a summary budget as well as breakdowns reflecting both administrative and program budgets. Applicants may provide separate sub-budgets for each program component, phase, location, or activity in order to provide clarification.

Allowable costs for the program include the following:

A. Program Costs

(1). One-way economy fare international travel from their overseas location;

(2). Domestic travel;

(3). Tuition, room and board, stipends, incidental expenses, maintenance for university vacation periods;

(4). Educational materials;

(5). Cost of standardized test fees;

(6). Per diem for orientation, professional, academic, and cultural enrichment.

B. Administrative Costs

(1). Staff salaries and benefits;

(2). Staff travel;

(3). Communications (including telephone, fax, postage, etc.);

(4). Office supplies;

(5). Other direct costs.

Please refer to the Solicitation Package for complete budget guidelines and formatting instructions.

Announcement Title and Number: All correspondence with the Bureau concerning this RFGP should reference the Burma Refugee Scholarship Program and number ECA/A/E/EAP-02-BRSP.

FOR FURTHER INFORMATION, CONTACT: Mary Hanlon, Office of Academic Exchange Programs, ECA/A/E/EAP, Room 208, United States Department of State, 301 4th Street, SW., Washington, DC 20547, phone: (202) 619-5406, fax: (202) 401-1728, email: mhanlon@pd.state.gov to request a Solicitation Package. The Solicitation Package contains detailed award criteria, required application forms, specific budget instructions, and standard guidelines for proposal preparation. Please specify Program Officer Mary Hanlon on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, DC time on May 23, 2002. Faxed documents will not be accepted at any time. Documents postmarked the due date but received on a later date will not be accepted. Each applicant must ensure that the proposal is received by the above deadline. Applicants must follow all instructions in the Solicitation Package. The original and seven (7) copies of the application should be sent to: U.S. Department of State, SA-44, Bureau of Educational and Cultural Affairs, Ref.: ECA/A/E/EAP-02-BRSP, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges.

Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the appropriate Public Diplomacy Section overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants or cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue, and program evaluation) and program content (orientation and wrap-up sessions, program meetings, resource materials, and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the project's success, both as the activities unfold and at the end of the program. A draft survey questionnaire or other technique plus description of a methodology used to link outcomes to original project objectives is recommended. Successful applicants will be expected to submit intermediate reports after each project component is concluded or quarterly, whichever is less frequent.

10. Cost-effectiveness: The overhead and administrative components of the proposal, including salaries and honoraria, should be kept as low as possible. All other items should be necessary and appropriate. Proposals whose administrative costs are 20% or less of the total requested from ECA will be deemed more competitive.

11. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 4, 2002.
Rick A. Ruth,
Principal Deputy Assistant Secretary, Bureau of Educational and Cultural Affairs, Department of State.

[FR Doc. 02-8833 Filed 4-10-02; 8:45 am]

BILLING CODE 4710-05-P